DEPARTMENT OF JUSTICE

Office of Justice Programs

[OJP(OVW)-1375]

Meeting of the National Advisory Committee on Violence Against Women

AGENCY: Office on Violence Against Women, Office of Justice Programs, Justice.

ACTION: Notice of meeting.

SUMMARY: This notice sets forth the schedule and proposed agenda of a forthcoming public meeting of the National Advisory Committee on Violence Against Women (hereinafter “the Committee”).

DATES: The meeting will take place on April 24 from 9 a.m. to 5 p.m., and on April 25 from 9:30 a.m. to 3 p.m.

ADDRESSES: The meeting will take place at the U.S. Department of Health and Human Services, Hubert Humphrey Building 200 Independence Avenue, NW., Washington, DC.

FOR FURTHER INFORMATION CONTACT: Omar A. Vargas, Special Assistant, The National Advisory Committee on Violence Against Women, 810 Seventh Street, NW., Washington, DC 20531. Telephone: (202) 307-6026. E-mail: AskNAC@ojp.usdoj.gov. Fax: (202) 307-3911. You may view the Committee's Web site at: http://www.ojp.usdoj.gov/vawo/nac/welcome.html.

SUPPLEMENTARY INFORMATION: The Committee is chartered by the Attorney General, and co-chaired by the Attorney General and the Secretary of Health and Human Services (the Secretary), to provide the Attorney General and the Secretary with practical and general policy advice concerning implementation of the Violence Against Women Act of 1994, the Violence Against Women Act of 2000, and related laws, and will assist in the efforts of the Department of Justice and the Department of Health and Human Services to combat violence against women, especially domestic violence, sexual assault, and stalking.

In addition, because violence is increasingly recognized as a public health problem of staggering human cost, the Committee will bring national attention to the problem of violence against women and increase public awareness of the need for prevention and enhanced victim services.

This meeting will primarily focus on the Committee's work; there will, however, be an opportunity for public comment on the Committee's role in providing general policy guidance on implementation of the Violence Against Women Act of 1994, the Violence Against Women Act of 2000, and related legislation.

Meeting Format

This meeting will be held according to the following schedule:

1. Date: Thursday, April 24, 2003.

Time: 9 a.m-12 p.m.; including breaks. 12 p.m.-5 p.m., the Committee will gather for lunch and subcommittee meetings in sessions not open to the public.

2. Date: Friday, April 25, 2003. Time: 9:30 a.m.-3 p.m., including breaks and a working lunch.

The meeting schedule for April 24, 2003 will begin with presentations from invited speakers and reports on the work of the Committee's subcommittees. Time will be reserved for comments from the public, beginning at 10:30 a.m. and ending at 11 a.m. See the section below on Reserving Time for Public Comment, for information on how to reserve time on the agenda.

The meeting scheduled for April 25, 2003, will consist of briefings on Violence Against Women initiatives at the Department of Justice and the Department of Health and Human Services, and subcommittees will report back on the previous day's work.

Attending the Meeting

The meeting on April 24, from 9 a.m. to 12 p.m., will be open to the public. (The Committee will convene for lunch and in closed subcommittee sessions from 12 p.m. to 5 p.m. pursuant to 41 CFR 102-3.160 of the Federal Advisory Committee Act.) Registrations for the public sessions will be accepted on a space-available basis. Members of the public who wish to attend must register at least six (6) days in advance of the meeting by contacting Omar A. Vargas, Special Assistant, at the e-mail address or fax number listed above. Access to the meeting will not be allowed without registration, and all attendees will be required to sign in at the meeting registration desk. Please bring photo identification and allow extra time prior to the meeting.

Individuals who will need special accommodations for a disability in order to attend the meetings should notify Omar A. Vargas, Special Assistant, at the above e-mail address or by fax, no later than April 18, 2003. We will attempt to meet requests after this date, but cannot guarantee availability of the requested accommodation. The meeting site is accessible to individuals with disabilities.

Submitting Written Comments

Interested parties are invited to submit written comments to the Committee, by September 30, 2003, using one of the following methods: by e-mail to AskNAC@ojp.usdoj.gov; by fax on (202) 307-3911; or by U.S. mail to The National Advisory Committee on Violence Against Women, 810 Seventh Street, NW., Washington, DC 20531. Due to delays in mail delivery caused by heightened security, please allow adequate time for the mail to be received (we recommend 3-4 weeks).

Reserving Time for Public Comment

If you are interested in participating during the public comment period of the meeting, on the implementation of the Violence Against Women Act of 1994, and the Violence Against Women Act of 2000, you are requested to reserve time on the agenda by contacting the Office on Violence Against Women, Office of Justice Programs, U.S. Department of Justice, by e-mail or fax. Please include your name, the organization you represent, if appropriate, and a brief description of the issue you would like to present. Participants will be allowed approximately 3 to 5 minutes to present their comments, depending on the number of individuals who reserve time on the agenda. Participants are also encouraged to submit two written copies of their comments at the meeting.

Given the expected number of individuals interested in providing comments at the meetings, reservations for presenting comments should be made as soon as possible.

Persons who are unable to obtain reservations to speak during the meetings are encouraged to submit written comments, which will be accepted at the meeting site or may be mailed to the Committee at the address listed under the section on Submitting Written Comments.

Notice of this meeting is required under section 10(a)(2) of the Federal Advisory Committee Act.

Dated: April 4, 2003.
Diane M. Stuart,
Acting Director, Office on Violence Against Women.

[FR Doc. 03-8629 Filed 4-8-03; 8:45 am]

BILLING CODE 4410-18-P